DEPARTMENT OF HOMELAND SECURITY

Coast Guard

33 CFR Part 100

[Docket No. USCG-2016-0602]

Eighth Coast Guard District Annual Recurring Marine Events

AGENCY: Coast Guard, DHS.

ACTION: Notice of enforcement of regulation.

SUMMARY: The Coast Guard will enforce special local regulations during the Pittsburgh Three Rivers Regatta on the Ohio River, from mile 0.0-0.5, Allegheny River mile 0.0-0.6, Monongahela River mile 0.0-0.5 extending the entire width of all three rivers. These regulations are needed to protect vessels transiting the area and event spectators from the hazards associated with a regatta on the navigable waterway. During the enforcement period, entry into, transiting, or anchoring in the regulated area is prohibited to all vessels not registered with the sponsor as participants or official patrol vessels, unless specifically authorized by the Captain of the Port (COTP) Pittsburgh or a designated representative.

DATES: The regulations in 33 CFR 100.801, Table 1, Sector Ohio Valley, No. 22 are effective from 12 noon until 11:30 p.m. daily, from August 5, 2016 through August 7, 2016.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce special local regulations for the annual Pittsburgh Three Rivers Regatta listed in 33 CFR 100.801 Table 1, Sector Ohio Valley, No. 22 from 12:00 noon until 11:30 p.m., from August 5, 2016 through August 7, 2016. Entry into the regulated area is prohibited unless authorized by the COTP or a designated representative. Persons or vessels desiring to enter into or pass through the area must request permission from the COTP or a designated representative. If permission is granted, all persons and vessels shall comply with the instructions of the COTP or designated representative.

This notice of enforcement is issued under authority of 33 CFR 100.801 and 5 U.S.C. 552(a). In addition to this notice in the Federal Register, the Coast Guard will provide the maritime community with advance notification of this enforcement period via Local Notice to Mariners and updates via Marine Information Broadcasts.

L. McClain, Jr.,
Commander, U.S. Coast Guard, Captain of the Port Pittsburgh.

[FR Doc. 2016-18257 Filed 8-1-16; 8:45 am]

BILLING CODE 9110-04-P